FEDERAL COMMUNICATIONS COMMISSION

Technological Advisory Council; Meeting

AGENCY: Federal Communications Commission.

ACTION: Notice of public meeting.

SUMMARY: In accordance with the Federal Advisory Committee Act, Pub. L. 92-463, as amended, this notice advises interested persons of the third meeting of the Technological Advisory Council (“Council”) under its new charter.

DATES: Wednesday, December 5, 2001 at 10 a.m.

ADDRESSES: Federal Communications Commission, 445 12th St. SW., Room TW-C305, Washington DC 20554.

SUPPLEMENTARY INFORMATION: Continuously accelerating technological changes in telecommunications design, manufacturing, and deployment require that the Commission be promptly informed of those changes to fulfill its statutory mandate effectively. The Council was established by the Federal Communications Commission to provide a means by which a diverse array of recognized technical experts from a variety of interests such as industry, academia, government, citizens groups, etc., can provide advice to the FCC on innovation in the communications industry. The purpose of, and agenda for, the third meeting under the Council's new charter will be to organize the Council's efforts to fulfill its responsibilities under the new charter and consider such questions as the Commission may put before it. Members of the general public may attend the meeting. The Federal Communications Commission will attempt to accommodate as many persons as possible. Admittance, however, will be limited to the seating available. Unless so requested by the Council's Chair, there will be no public oral participation, but the public may submit written comments to Julius Knapp, the Council's Designated Federal Officer, before the meeting. Julius Knapp's e-mail address is jknapp@fcc.gov. His U.S. mail address is Julius Knapp, Deputy Chief, Office of Engineering and Technology, Federal Communications Commission, 445 12th Street, SW., Washington, DC 20554.

Federal Communications Commission.
Magalie Roman Salas,
Secretary.

[FR Doc. 01-28415 Filed 11-9-01; 8:45 am]

BILLING CODE 6712-01-P